Title 3—

The President

Proclamation 7847 of November 19, 2004

National Farm-City Week, 2004

By the President of the United States of America

A Proclamation

America's farmers and ranchers provide a healthy, safe, and abundant food supply for our Nation and for people around the world. Their work depends on partnerships with shippers, processors, marketers, retailers, transporters, and many others, and their success is essential to America's prosperity. During National Farm-City Week, we recognize the importance of this cooperative network and the hard work and valuable contributions of those in our agricultural industry.

As one of our first industries, farming has long been vital to our Nation. Nearly half of the land in the United States is used for agricultural production, employing millions of workers, and providing consumers with food, clothing, and energy. In addition, America's farmers and ranchers are stewards of our land, using innovative conservation measures to protect our soil, water, and wildlife habitat.

Our cities also play a key role in our farm economy. Many of the industries that process, transport, and distribute agricultural goods are located in America's urban communities. Their work has contributed to record exports of farm products and to the prosperity of our Nation's agricultural industry.

My Administration will continue to work to strengthen American agriculture. As we observe National Farm-City Week, I join all our citizens in expressing gratitude to farmers, ranchers, and all those who work in our agricultural industry for their love of the land and love of our country.

NOW, THEREFORE, I, GEORGE W. BUSH, President of the United States of America, by virtue of the authority vested in me by the Constitution and laws of the United States, do hereby proclaim November 19 through November 25, 2004, as National Farm-City Week. I encourage all Americans to celebrate the cooperation between urban and rural communities and the extraordinary contributions of the agricultural industry to our Nation's vitality and prosperity.

IN WITNESS WHEREOF, I have hereunto set my hand this nineteenth day of November, in the year of our Lord two thousand four, and of the Independence of the United States of America the two hundred and twenty-ninth.

B

[FR Doc. 04-26260

Filed 11-23-04; 10:00 am]

Billing code 3195-01-P